DEPARTMENT OF ENERGY

Federal Energy Regulatory Commission

[Docket No. EL15-47-000]

NextEra Desert Center Blythe, LLC v. California Independent System Operator Corporation; Notice of Complaint

Take notice that on February 18, 2015, pursuant to section 206 of the Federal Energy Regulatory Commission's (Commission) Rules of Practice and Procedure, 18 CFR 385.206 and section 206 of the Federal Power Act, 16 U.S.C. 824(e), NextEra Desert Center Blythe, LLC (Complainant) filed a formal complaint against the California Independent System Operator Corporation (Respondent) alleging that, the Respondent failed to allocate Merchant Congestion Revenue Rights to the Complainant for its investment in transmission upgrades as required by the Respondent's Market Redesign and Technology Upgrade Tariff.

The Complainant certifies that copies of the complaint were served on the contacts for the Respondent and Southern California Edison Company as listed on the Commission's list of Corporate Officials and on the California Public Utilities Commission.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on March 10, 2015.

Dated: February 19, 2015.
Nathaniel J. Davis, Sr.,
Deputy Secretary.

[FR Doc. 2015-03909 Filed 2-25-15; 8:45 am]

BILLING CODE 6717-01-P